DEPARTMENT OF ENERGY

Federal Energy Regulatory Commission

Combined Notice of Filings #1

Take notice that the Commission received the following electric rate filings:

Docket Numbers: ER18-1174-001.

Applicants: Imperial Valley Solar 2, LLC.

Description: Notice of Non-Material Change in Status of Imperial Valley Solar 2, LLC.

Filed Date: 4/28/21.

Accession Number: 20210428-5353.

Comments Due: 5 p.m. ET 5/19/21.

Docket Numbers: ER21-1165-001.

Applicants: Purge Energy LLC.

Description: Tariff Amendment: Tariffs and Agreements to be effective 4/28/2021.

Filed Date: 4/28/21.

Accession Number: 20210428-5291.

Comments Due: 5 p.m. ET 5/19/21.

Docket Numbers: ER21-1789-000.

Applicants: Southwest Power Pool, Inc.

Description: Notice of cancellation of Network Integration Transmission Service Agreement and Network Operating Agreement of Southwest Power Pool, Inc.

Filed Date: 4/28/21.

Accession Number: 20210428-5263.

Comments Due: 5 p.m. ET 5/19/21.

Docket Numbers: ER21-1791-000.

Applicants: Mid-Atlantic Interstate Transmission, LLC, PJM Interconnection, L.L.C.

Description: § 205(d) Rate Filing: MAIT submits ECSA No. 5940 to be effective 6/29/2021.

Filed Date: 4/29/21.

Accession Number: 20210429-5042.

Comments Due: 5 p.m. ET 5/20/21.

Docket Numbers: ER21-1792-000.

Applicants: Southwest Power Pool, Inc.

Description: § 205(d) Rate Filing: 2198R30 Kansas Power Pool NITSA NOA to be effective 4/1/2021.

Filed Date: 4/29/21.

Accession Number: 20210429-5044.

Comments Due: 5 p.m. ET 5/20/21.

Docket Numbers: ER21-1793-000.

Applicants: Southern California Edison Company.

Description: § 205(d) Rate Filing: UFA Yellow Pine 2 Project TOT796AFS SA No. 261 to be effective 4/30/2021.

Filed Date: 4/29/21.

Accession Number: 20210429-5081.

Comments Due: 5 p.m. ET 5/20/21.

Docket Numbers: ER21-1794-000.

Applicants: White Oak Energy LLC.

Description: Baseline eTariff Filing: Reactive Power Compensation Filing to be effective 6/28/2021.

Filed Date: 4/29/21.

Accession Number: 20210429-5128.

Comments Due: 5 p.m. ET 5/20/21.

Docket Numbers: ER21-1795-000.

Applicants: Oakland Power Company LLC.

Description: § 205(d) Rate Filing: Request for Authorization of Payment Pursuant to Section 7.5 of RMR Agreement to be effective 6/29/2021.

Filed Date: 4/29/21.

Accession Number: 20210429-5236.

Comments Due: 5 p.m. ET 5/20/21.

Docket Numbers: ER21-1796-000.

Applicants: Transource Oklahoma, LLC, Southwest Power Pool, Inc.

Description: § 205(d) Rate Filing: Transource Oklahoma, LLC Formula Rate to be effective 7/1/2021.

Filed Date: 4/29/21.

Accession Number: 20210429-5242.

Comments Due: 5 p.m. ET 5/20/21.

Take notice that the Commission received the following electric securities filings:

Docket Numbers: ES21-41-000.

Applicants: Southwestern Electric Power Company.

Description: Application under Section 204 of the Federal Power Act for Authorization to Issue Securities for Southwestern Electric Power Company.

Filed Date: 4/29/21.

Accession Number: 20210429-5063.

Comments Due: 5 p.m. ET 5/20/21.

Take notice that the Commission received the following electric reliability filings:

Docket Numbers: RR20-5-001.

Applicants: North American Electric Reliability Corporation.

Description: Compliance Filing of The North American Electric Reliability Corporation on The Revised Delegation Agreements With Regional Entities.

Filed Date: 4/29/21.

Accession Number: 20210429-5087.

Comments Due: 5 p.m. ET 5/20/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2021.
Nathaniel J. Davis, Sr.,
Deputy Secretary.

[FR Doc. 2021-09481 Filed 5-4-21; 8:45 am]

BILLING CODE 6717-01-P